SMALL BUSINESS ADMINISTRATION

13 CFR Parts 121, 125, 127 and 134

RIN 3245-AF80

The Women-Owned Small Business Federal Contract Assistance Procedures—Eligible Industries

AGENCY: U.S. Small Business Administration (SBA).

ACTION: Proposed rule, notice of reopening of comment period.

SUMMARY: SBA is reopening the comment period for an additional 60 days.

DATES: Comments on the proposed rule on The Women-Owned Small Business Federal Contract Assistance Procedures—Eligible Industries, must be received on or before March 13, 2009.

ADDRESSES: You may submit comments, identified by 3245-AF80, by any of the following methods:

• Federal eRulemaking Portal: http://www.regulations.gov. Follow the instructions for submitting comments.

• Mail, Hand Delivery/Courier: Dean Koppel, Assistant Director, Policy, Planning and Research, Office of Government Contracting, (202) 205-6460, U.S. Small Business Administration, 409 3rd Street, SW., Washington, DC 20416.

• All comments will be posted on http://www.regulations.gov. If you wish to submit confidential business information (CBI) as defined in the User Notice at http://www.regulations.gov, please submit the comments to Dean Koppel and highlight the information that you consider to be CBI and explain why you believe this information should be held confidential. SBA will make a final determination as to whether the comments will be published or not.

FOR FURTHER INFORMATION CONTACT: Dean Koppel, Assistant Director, Policy, Planning and Research, Office of Government Contracting, (202) 205-6460.

SUPPLEMENTARY INFORMATION: On October 1, 2008, SBA published in the Federal Register a proposed rule on The Women-Owned Small Business Federal Contract Assistance Procedures—Eligible Industries (73 FR 57014). The proposed rule sought comments from the public on a data issue involving the Women-Owned Small Business (WOSB) Federal Contract Assistance Procedures, which were finalized on October 1, 2008 (73 FR 56940). Specifically, SBA was seeking comments on two data sets: (1) The Central Contractor Registration (CCR) data set which was used in the RAND report to determine the representation of WOSBs in Federal procurement in the various industries, and (2) a non-public Survey of Business Owners (SBO) data set from the Economic Census, which was not previously used in the RAND report to determine the representation of WOSBs in Federal procurement in the various industries. This request for comments was intended to stimulate dialogue on available data sets and would be evaluated to determine which data set will provide the soundest basis to identify industries in which WOSBs are underrepresented in Federal procurement.

The original comment period was from October 1, 2008, through October 31, 2008. There is significant Congressional and public interest in extending the comment period. In addition, SBA is reviewing the relevance of the standard for disparity studies discussed in the Federal Circuit's decision in Rothe Development Corporation v. Department of Defense. Therefore, SBA is reopening the comment period until March 13, 2009. SBA believes that all affected parties would find it beneficial to have more time to review the proposed rule and prepare their comments.

Authority: 15 U.S.C. 634.

Calvin Jenkins,
Acting Associate Administrator for Government Contracting and Business Development.

[FR Doc. E9-407 Filed 1-9-09; 8:45 am]

BILLING CODE 8025-01-P